OFFICE OF SCIENCE AND TECHNOLOGY POLICY

Meeting of the President's Council of Advisors on Science and Technology

AGENCY: Office of Science and Technology Policy.

ACTION: Notice of meeting.

SUMMARY: This notice sets forth the schedule and summary agenda for a meeting of the President's Council of Advisors on Science and Technology (PCAST), and describes the functions of the Council. Notice of this meeting is required under the Federal Advisory Committee Act (FACA).

Dates and Place: September 30, 2002, Washington, DC. The meeting will be held in the Loy Henderson Conference Room at the Harry S. Truman Building, U.S. Department of State at 2201 C St., NW. Guests must use the entrance on 23rd Street between C and D Streets, NW.

Pre-Clearance: Guests must be pre-cleared to enter the State Department Building. U.S. citizens must provide their name, date of birth and Social Security Number to be pre-cleared into the building and on arrival must present a government-issued ID (e.g., drivers license) at the registration desk. Foreign nationals should provide their name, date of birth and their passport number to be pre-cleared. On arrival, they must present their passport at the registration desk. Guests should provide this pre-clearance information to Cynthia Chase at (202) 456-6010. Pre-clearance information will also be available on the PCAST Web site at: http://www.ostp.gov/PCAST/pcast.html.

Type of Meeting: Open.

Proposed Schedule and Agenda: The President's Council of Advisors on Science and Technology is tentatively scheduled to meet in open session on Monday, September 30, 2002, at approximately 9 a.m., to discuss the status of the work being conducted by the four PCAST subcommittees: (1) The science and technology of combating terrorism; (2) policies and technologies to improve energy efficiency; (3) the federal investment in science and technology research and development; and (4) demand issues that can speed the deployment of a 21st Century broadband infrastructure. A discussion of relevant international issues with State Department officials is also tentatively scheduled to occur. This session will end at approximately 4:30 p.m.

Public Comments: There will be a time allocated for the public to speak on any of the above agenda items. Please make your request for the opportunity to make a public comment five (5) days in advance of the meeting. The time for public comments will be limited to no more than 5 minutes per person. Written comments are welcome at any time prior to or following the meeting. Please notify Stan Sokul, PCAST Executive Director, at (202) 456-6070, or fax your request/comments to (202) 456-6021.

FOR FURTHER INFORMATION CONTACT: For information regarding time, place and agenda, please call Cynthia Chase at (202) 456-6010, prior to 3 p.m. on Friday, September 27, 2002. Information will also be available at the PCAST Web site at: http://www.ostp.gov/PCAST/pcast.html. Please note that public seating for this meeting is limited and is available on a first-come, first-served basis.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Barbara Ann Ferguson,
Assistant Director for Budget and Administration, Office of Science and Technology Policy.

[FR Doc. 02-23712 Filed 9-17-02; 8:45 am]

BILLING CODE 3170-01-P